DEPARTMENT OF COMMERCE

International Trade Administration

A-570-894

Certain Tissue Paper Products from the People's Republic of China: Notice of Partial Rescission of Antidumping Duty Administrative Review

AGENCY: Import Administration, International Trade Administration, Department of Commerce.

SUMMARY: On April 28, 2006, the Department of Commerce (the Department) published in the Federal Register (71 FR 25145) a notice announcing the initiation of the antidumping duty administrative review on certain tissue paper products (tissue paper) from the People's Republic of China (PRC). The period of review (POR) is September 21, 2004, through February 28, 2006. This review is now being rescinded for Fujian Naoshan Paper Industry Group Co., Ltd. (Naoshan), Fuzhou Magicpro Gifts Co., Ltd. (Magicpro), Guilin Qifeng Paper Co., Ltd. (Guilin Qifeng), Goldwing Co., Ltd. (Goldwing), and AR Printing and Packaging (AR P&P), because the only requesting party withdrew its request in a timely manner.

EFFECTIVE DATE: September 29, 2006.

FOR FURTHER INFORMATION CONTACT: Kristina Boughton or Bobby Wong, AD/CVD Operations, Office 9, Import Administration, International Trade Administration, U.S. Department of Commerce, 14th Street and Constitution Avenue, NW., Washington, DC 20230; telephone: (202) 482-8173 or (202) 482-0409, respectively.

SUPPLEMENTARY INFORMATION:

Background

On March 30, 2005, the Department published in the Federal Register an antidumping duty order covering tissue paper from the PRC. See Notice of Amended Final Determination of Sales at Less than Fair Value and Antidumping Duty Order: Certain Tissue Paper Products from the People's Republic of China, 70 FR 16223 (March 30, 2005) (Tissue Paper Order). On March 2, 2006, the Department published a Notice of Opportunity to Request Administrative Review of Antidumping or Countervailing Duty Order, Finding, or Suspended Investigation, 71 FR 10642.

On March 30, 2006, interested party Cleo Inc., an importer of subject merchandise, requested, in accordance with 19 CFR 351.213(b), an administrative review of the antidumping duty order on tissue paper from the PRC for China National Aero-Technology Import & Export Xiamen Corp. (China National), Putian City Hong Ye Paper Products Co., Ltd., and Putian City Chengxiang Qu Li Feng covering the POR. On March 31, 2006, Seaman Paper Company of Massachusetts, Inc., petitioner, requested, in accordance with 19 CFR 351.213(b), an administrative review of the antidumping duty order on tissue paper from the PRC for 16 companies covering the POR. The companies are AR P&P, China National, Foshan Sansico Co., Ltd., Naoshan, Magicpro, Gifiworld Enterprise Co., Ltd., Guilin Qifeng, Goldwing, Kepsco, Inc., Max Fortune Industrial Limited, PT Grafitecindo Ciptaprima, PT Printec Perkasa, PT Printec Perkasa II, PT Sansico Utama, Sansico Asia Pasific Limited, and Vietnam Quijiang Paper Co., Ltd.

On March 31, 2006, Samsam Productions Ltd. requested, in accordance with 19 CFR 351.213(b), an administrative review of the antidumping duty order on tissue paper from the PRC for itself and its affiliated Chinese supplier Guangzhou Baxi Printing Products Co., Ltd. for the POR, as did Max Fortune Industrial Limited and Max Fortune Paper Products Co., Ltd. On April 28, 2006, the Department initiated an administrative review of 20 companies. See Initiation of Antidumping and Countervailing Duty Administrative Reviews, 71 FR 25145 (April 28, 2006).

On July 24, 2006, petitioner requested that the Department extend the deadline for withdrawing requests for specific producers and exporters in the instant administrative review. On July 26, 2006, in accordance with 19 CFR 351.213(d)(i), the Department granted an extension for withdrawing requests until August 25, 2006. On August 25, 2006, petitioner filed a letter withdrawing its request for review of five companies, Naoshan, Magicpro, Guilin Qifeng, Goldwing, and AR P&P. Petitioner was the only party to request a review of these five companies.

Rescission of Review

The applicable regulation, 19 CFR 351.213(d)(1), states that if a party that requested an administrative review withdraws the request within 90 days of the publication of the notice of initiation of the requested review, the Secretary will rescind the review. The regulation also states that the Secretary may extend this time limit if the Secretary decides that it is reasonable to do so. In this instance, petitioner requested a 29-day extension of the deadline to withdraw review requests. The Department granted the extension because the Department had not yet committed substantial resources to reviewing these companies. See, e.g., Tapered Roller Bearings and Parts Thereof, Finished and Unfinished, From Hungary: Recission of Antidumping Duty Administrative Review, 65 FR 35610 (June 5, 2000). Petitioner then submitted a request withdrawing the review with respect to the five companies within the extended 119-day deadline, in accordance with 19 CFR 351.213(d)(1). Because petitioner was the only party to request an administrative review of these five companies, we are partially rescinding this review of the antidumping duty order on tissue paper from the PRC covering the period September 21, 2004, through February 28, 2006, with respect to Naoshan, Magicpro, Guilin Qifeng, Goldwing, and AR P&P.

Assessment

The Department will instruct U.S. Customs and Border Protection (CBP) to assess antidumping duties on all appropriate entries. For those companies for which this review is rescinded, antidumping duties shall be assessed at rates equal to the cash deposit of estimated antidumping duties required at the time of entry, or withdrawal from warehouse, for consumption, in accordance with 19 CFR 351.212(c)(2). The Department will issue appropriate assessment instructions directly to CBP within 15 days of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751 and 777(i) of the Tariff Act of 1930, as amended, and 19 CFR 351.213(d)(4).

Dated: September 25, 2006.
Stephen J. Claeys,
Deputy Assistant Secretary for Import Administration.

[FR Doc. E6-16065 Filed 9-28-06; 8:45 am]

BILLING CODE 3510-DS-S